DEPARTMENT OF HEALTH AND HUMAN SERVICES

Health Care Financing Administration

42 CFR Part 405

[HCFA-6003-N]

RIN 0938-AI49

Medicare Program; Appeals of Carrier Determinations That a Physician or Other Supplier Fails To Meet the Requirements for Medicare Billing Privileges; Reopening of Comment Period

AGENCY: Health Care Financing Administration (HCFA), HHS.

ACTION: Notice of reopening of comment period for proposed rule.

SUMMARY: We published a proposed rule in the Federal Register on October 25, 1999 (64 FR 57431). That proposed rule would affect appeal rights for suppliers whose enrollment applications for Medicare billing privileges are disallowed by a carrier, or whose Medicare billing privileges are revoked. This document reopens and extends the comment period for that proposed rule until January 4, 2001.

DATES: The comment period is reopened to 5 p.m. on January 4, 2001.

ADDRESSES: Mail written comments (one original and three copies) to the following address ONLY: Health Care Financing Administration, Department of Health and Human Services, Attention: HCFA-6003-P, P.O. Box 8013, Baltimore, MD 21207-8013.

Since comments must be received by the date specified above, please allow sufficient time for mailed comments to be timely received in the event of delivery delays. If you prefer, you may deliver your written comments by courier, (one original and three copies) to one of the following addresses: Room 443-G, Hubert H. Humphrey Building, 200 Independence Avenue, SW., Washington, DC 20201, or Room C5-14-03, Central Building, 7500 Security Boulevard, Baltimore, MD 21244-1850.

Comments mailed to the two above addresses may be delayed and considered late. Because of staffing and resource limitations, we cannot accept comments by facsimile (FAX) transmission. In commenting, please refer to file code HCFA-6003-P. Comments received timely will be available for public inspection as they are received, generally beginning approximately 3 weeks after publication of a document, in Room 443-G of the Department's offices at 200 Independence Avenue, SW., Washington, DC, on Monday through Friday of each week from 8:30 a.m. to 5 p.m. (phone: (202) 690-7890).

For comments that relate to information collection requirements, mail a copy of comments to the following: Health Care Financing Administration, Office of Information Services, Information Technology Investment Management Group, Attn.: John Burke, Room N2-14,26, 7500 Security Boulevard, Baltimore, MD 21244-1850.

Office of Information and Regulatory Affairs, Office of Management and Budget, Room 10235, New Executive Office Building, Washington, DC 20503, Attn: Allison Herron Eydt, HCFA Desk Officer.

FOR FURTHER INFORMATION CONTACT: Charles Waldhauser, (410) 786-6140.

SUPPLEMENTARY INFORMATION: On October 25, 1999, we published a proposed rule in the Federal Register (64 FR 57431) that would extend appeal rights to all physicians and other suppliers whose enrollment applications for Medicare billing privileges are disallowed by a carrier or whose Medicare billing privileges are revoked. That rule would be applicable to all suppliers except for those covered under other existing appeals provisions of our regulations. In addition, we proposed to revise certain appeal provisions to correspond with the existing appeal provisions in those other sections of our regulations. We also proposed to extend appeal rights to all suppliers not covered by existing regulations to ensure they have a full and fair opportunity to be heard. Although we were not required by the Administrative Procedure Act to publish that rule as a proposed rule (see 5 U.S.C. section 553(b)(3)(A)), we did so in order to allow interested parties the opportunity for prior notice and comment.

Because of the complexity and scope of the proposed rule and because representatives of several industry and professional associations and organizations requested additional time to analyze the potential consequences of the rule, we are reopening and extending the comment period until January 4, 2001.

We are also taking this opportunity to make a minor change to the title of the proposed rule. Specifically, we are clarifying that this rule would apply to all suppliers, including physicians and other practitioners. Although physicians are defined as suppliers at 42 CFR 400.202, the American Medical Association voiced concern that physicians may not be aware that the proposed rule applies to them. In an effort to avoid any confusion, we are adding the term “physicians” to the title of the proposed rule.

Authority: Secs. 1102, 1842(b)(3)(c), and 1869(b) of the Social Security Act (42 U.S.C. 1302, 1395u(b)(3)(c), and 1395ff(b)).

(Catalog of Federal Domestic Assistance No. 93.774, Medicare—Supplementary Medical Insurance Program)
Dated: February 14, 2000.
Nancy-Ann Min DeParle,
Administrator, Health Care Financing Administration.
Dated: March 27, 2000.
Donna E. Shalala,
Secretary.

[FR Doc. 00-22702 Filed 9-5-00; 8:45 am]

BILLING CODE 4120-01-P